DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Summer Teacher Institute.

Agency Approval Number: 0651-0077.

Type of Request: Revision of a currently approved collection.

Burden: 292 hours annually.

Number of Respondents: 900 responses per year.

Avg. Hours per Response: The USPTO estimates that it will take the public approximately 5 minute (0.08 hours) to 30 minutes (0.5 hours) to prepare the appropriate form or documents and submit to the USPTO.

Needs and Uses: As part of the Maker Fair Initiative, a program entitled “National Teachers' Summer Institute” is sponsored by USPTO. This program accepts applicants for a summer teaching workshop. The program receives applications from individuals, requesting to participate in the Institute, who certify that they are educators with at least 3 years' experience. These applicants are also required to (1) have taught in STEM related fields last year, (2) plan to teach in a STEM related field this upcoming year, and (3) to acknowledge their commitment to incorporate the learnings from the Teacher Summer Institute into their curriculum, where applicable, and cooperate with sharing lessons and outcomes with teachers and PTO.

The USPTO may various host webinars in conjunction with the Summer Institute. USPTO plans to conduct surveys of both the Institute and the webinars in order to gain useful feedback from program participants.

Affected Public: Businesses or other for-profit organizations.

Frequency: Annually.

Respondent's Obligation: Required to obtain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0012 copy request” in the subject line of the message.

• Mail: Marcie Lovett, Office of the Chief Information Officer, United States Patent and Trademark Office, P.O. Box 1450, Alexandria, VA 22313-1450.

Written comments and recommendations for the proposed information collection should be sent on or before February 2, 2015 to Nicholas A. Fraser, OMB Desk Officer, via email to Nicholas_A._Fraser@omb.eop.gov, or by fax to 202-395-5167, marked to the attention of Nicholas A. Fraser.

Margaret McElrath,
Deputy Director, Office of Information Management Services, Department of Commerce—USPTO.

[FR Doc. 2014-30680 Filed 12-31-14; 8:45 am]

BILLING CODE 3510-16-P